POSTAL SERVICE

Sunshine Act Meeting

Board Votes To Close December 13, 2001, Meeting

By paper and telephone vote on December 11-13, 2001 the Board of Governors of the United States Postal Service voted unanimously to close to public observation its meeting held in Washington, DC via teleconference. The Board determined that prior public notice was not possible.

ITEM CONSIDERED: Rate Case R2001-1.

GENERAL COUNSEL CERTIFICATION; The General Counsel of the United States Postal Service has certified that the meeting was properly closed under the Government in the Sunshine Act.

CONTACT PERSON FOR MORE INFORMATION: Request for information about the meeting should be addressed to the Secretary of the Board, David G. Hunter, at (202) 268-4800.

David G. Hunter,
Secretary.

[FR Doc. 01-31636 Filed 12-19-01; 2:05 pm]

BILLING CODE 7710-12-M